DEPARTMENT OF TRANSPORTATION

Federal Highway Administration

Re-evaluation With Respect to the Willits Bypass Project, Willits, CA, and the Use of City Streets During Project Construction

AGENCY: Federal Highway Administration (FHWA), DOT.

ACTION: Notice.

SUMMARY: This notice announces that Federal actions taken by the California Department of Transportation (Caltrans) pursuant to its assigned responsibilities under 23 U.S.C. 327 are final within the meaning of 23 U.S.C. 139 (l)(1). FHWA, on behalf of Caltrans, is issuing this notice to announce that, with respect to the State Route 101 Willits Bypass Project in Willits (Mendocino County), California, a Re-evaluation was prepared in order to determine whether the existing Final Environmental Impact Statement (FEIS) is still valid. Based upon the analyses contained in the Re-evaluation, Caltrans has made the determination that the existing FEIS is still valid and the preparation of a SEIS is not warranted and will therefore not be undertaken.

SUPPLEMENTARY INFORMATION: Caltrans conducted a Re-evaluation of the Final Environmental Impact Statement (FEIS) issued by FHWA in October 2006 (a Record of Decision for which was posted in the Federal Register in January 2007). The Re-evaluation was completed in January 2014 in response to new information and changes that were made to the project, including allowing the construction contractor to use city streets during construction of the project.

The purpose of the Re-evaluation was to examine potential environmental impacts resulting from the new information and proposed changes to the Willits Bypass Project and in order to determine whether the FEIS was still valid or whether a SEIS should be prepared in accordance with 40 CFR 1502.9(c). Based upon the Re-evaluation, Caltrans made the determination that preparation of a SEIS was not warranted and would not be undertaken (Caltrans made the determination in January 2014).

A claim seeking judicial review of the January 2014 Federal agency determination to not undertake a SEIS will be barred if the claim is not filed within 180 days of the initial publication of this notice in the Federal Register.

Copies of the Re-evaluation are available for review by appointment only at the following locations. Please call to make arrangements for viewing:

Caltrans, District 3 Office, 703 B Street, Marysville, CA 95901, 530-741-4393, and Caltrans, District 3 Office, 2379 Gateway Oaks Drive, #150, Sacramento, CA 916-274-0586.

FOR FURTHER INFORMATION CONTACT: John Webb, Supervisory Environmental Planner, California Department of Transportation, 703 B Street, Marysville, CA 95901, 530-741-4393, John_Webb@dot.ca.gov.

(Catalog of Federal Domestic Assistance Program Number 20.205, Highway Planning and Construction. The regulations implementing Executive Order 12372 regarding intergovernmental consultation on Federal programs and activities apply to this program.)

Dated: Issued in Sacramento, California, February 5, 2014.
Gary Sweeten,
Team Leader North, Federal Highway Administration, Sacramento, California.

[FR Doc. 2014-03021 Filed 2-19-14; 8:45 am]

BILLING CODE 4910-22-P